SMALL BUSINESS ADMINISTRATION

[Disaster Declaration # 10565]

Alaska Disaster # AK-00005

AGENCY: U.S. Small Business Administration.

ACTION: Notice.

SUMMARY: This is a Notice of the Presidential declaration of a major disaster for Public Assistance Only for the State of Alaska (FEMA-1657-DR), dated 08/04/2006.

Incident: Snow melt and ice jam flooding.

Incident Period: 05/13/2006 through 05/30/2006.

Effective Date: 08/04/2006.

Physical Loan Application Deadline Date: 10/03/2006.

ADDRESSES: Submit completed loan applications to: U.S. Small Business Administration, National Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: Notice is hereby given that as a result of the President's major disaster declaration on 08/04/2006, applications for Private Non-Profit organizations that provide essential services of a governmental nature may file disaster loan applications at the address listed above or other locally announced locations.

The following areas have been determined to be adversely affected by the disaster:

Primary Areas: Lower Kuskokwim Regional Education Attendance Area, Lower Yukon Regional Education Attendance Area, Yukon-Koyukuk Regional Education Attendance Area.

The Interest Rates are:

| Percent
Other (including non-profit organizations) with credit available elsewhere | 5.000
Businesses and non-profit organizations without credit available elsewhere | 4.000

The number assigned to this disaster for physical damage is 10565.

(Catalog of Federal Domestic Assistance Number 59008).

Roger B. Garland,
Acting Associate Administrator for Disaster Assistance.

[FR Doc. E6-13645 Filed 8-17-06; 8:45 am]

BILLING CODE 8025-01-P